ENVIRONMENTAL PROTECTION AGENCY

[ER-FRL-6628-1]

Environmental Impact Statements; Notice of Availability

Responsible Agency: Office of Federal Activities, General Information (202) 564-7167 or www.epa.gov/oeca/ofa.

Weekly receipt of Environmental Impact Statements

Filed April 01, 2002 Through April 05, 2002

Pursuant to 40 CFR 1506.9.

EIS No. 020128, Final EIS, AFS, CO, Bark Beetle Analysis, Proposal to Reduce Infestation of Trees by Tree-Killing Bark Beetles, Medicine Bow-Routt National Forests, Hahans Peak/Bears Ears Ranger District, Routt, Grand, Jackson and Moffat Counties, CO, Wait Period Ends: May 13, 2002, Contact: Andy Cadenhead (970) 870-2220.

EIS No. 020129, Draft EIS, BLM, OR, Kelsey Whisky Landscape Management Planning Area, Implementation, Associated Medford District Resource Management Plan Amendments, Joseph and Jackson Counties, OR, Comment Period Ends: July 12, 2002, Contact: Sherwood Tubman (541) 618-2399. This document is available on the Internet at: www.or.blm.gov/medford.

EIS No. 020130, Draft Supplement, NPS, ID, MT, WY, MT, WY, Yellowstone and Grand Teton National Parks and John D. Rockefeller, Jr., Memorial Parkway, Winter Use Plans, Updated and New Information on New Generation of Snowmobiles that Produce fewer Emissions and are Quiter, Fremont County, ID, Gallatin and Park Counties, MT and Park and Counties, WY, Comment Period Ends: May 29, 2002, Contact: Madeleine VanderHeyden (307) 739-3385.

EIS No. 020131, Final Supplement, AFS, CO, Uncompahgre National Forest Travel Plan Revision and Forest Plan Amendment, Updated Information concerning New Travel Restrictions for Resource Management, Recreational Opportunities and Winter Travel, Implementation, Gunnision, Hinsdale, Mesa, Montrose, Ouray, San Juan and San Miguel Counties, CO, Wait Period Ends: May 13, 2002, Contact: Jeff Burch (970) 874-6649.

EIS No. 020132, Draft EIS, FHW, KS, US 59 Highway Improvements Construction, Lawrence to Ottawa, Funding, NPDES Permit Issuance and Possible US Army COE Permit Issuance, Douglas and Franklin Counties, KS , Comment Period Ends: May 30, 2002, Contact: David R. Geiger (785) 267-7287.

EIS No. 020133, Draft EIS, FHW, VA, Capital Beltway Study, Transportation Improvements to the 14-mile Section Capital Beltway (I-495) between the I-95/I-395/I-495 Interchange and the American Legion Bridge, Fairfax County, VA , Comment Period Ends: May 28, 2002, Contact: Edward S. Sundra (804) 775-3338.

EIS No. 020134, Draft EIS, MMS, AL, LA, MS, TX, Gulf of Mexico Outer Continental Shelf Oil and Gas Lease Sales: 2003-2007, Starting in 2002 the Proposed Central Planning Area Sales 185, 190, 194, 198, and 201 and Western Planning Area Sales 187, 192, 196, and 200, Offshore Marine Environment and Coastal Counties Parishes of Texas, LA, AL and MS, Comment Period Ends: May 31, 2002, Contact: Archie Melancon (703) 787-1547.

EIS No. 020135, Final EIS, FHW, TN, I-40 Transportation Improvements from I-75 to Cherry Street in Knoxville, Funding, NPDES and COE Section 404 Permits, Knox County, TN, Wait Period Ends: May 13, 2002, Contact: Mark Doctor (615) 781-5788.

EIS No. 020136, Final EIS, FHW, MT, Montana State Primary Route 78 (P-78), Reconstruction, Widening and Realignment, from the junction with State Secondary Route 419 (S-419) which is just South of Abarokee, to the Southern end of the Yellowstone River Bridge which is just south of Columbus, MT, Wait Period Ends: May 13, 2002, Contact: Dale W. Paulson (406) 449-5302.

EIS No. 020137, Draft EIS, HHS, GA, Chamblee Campus Centers for Disease Control and Prevention (CDC) Expansion, Atlanta Metro Area, City of Chamblee, Dekalb County, GA, Comment Period Ends: May 28, 2002, Contact: Phil Youngberg (404) 562-0787. This document is available on the Internet at: http://www.phe.com

EIS No. 020138, Final EIS, BIA, WA, White River Amphitheatre Project, Construction and Operation an 20,000 Seat Open-Air Amphitheatre on the Muckleshoot Indian Reservation, COE Section 404 Permit and NPDES Permit, Seattle-Tacoma, WA, Wait Period Ends: May 13, 2002, Contact: June Boynton (503) 231-6749.

EIS No. 020139, Final EIS, UAF, MT, Montana Air National Guard Air-to-Ground Training Range Development for Use by the 120th Fighter Wing (120th FW), Implementation, Phillips and Blaine Counties, MT, Wait Period Ends: May 13, 2002, Contact: Lt. Col. Tammy Mitnik (301) 836-8636.

EIS No. 020140, Final EIS, FTA, CA, BART-Oakland International Airport Connector, Extending south from the Existing Coliseum BART Station, about 3.2 miles, to the Airport Terminal Area, Alameda County, CA, Wait Period Ends: May 13, 2002, Contact: Donna Turchie (415) 744-3115.

EIS No. 020141, Draft EIS, COE, WV, Spruce Mine Number 1 Surface Mining Construction Project, US Army COE Section 404 and NPDES Permits Issuance, Blair, Logan County, WV, Comment Period Ends: May 28, 2002, Contact: James M. Richmond (304) 529-5210.

EIS No. 020142, Final EIS, FHW, NY, Interstate 86/Route 15 Interchange and Route 15/ Gang Mills Interchange, New Roadway and Ramp Construction, Intersection Reconstruction, New Bridges and Bridge Rehabilitation, Town of Erwin, Steuben County, NY, Wait Period Ends: May 13, 2002, Contact: Robert Arnold (518) 431-4127.

Dated: April 09, 2002.
Joseph C. Montgomery,
Director, NEPA Compliance Division, Office of Federal Activities.

[FR Doc. 02-8957 Filed 4-11-02; 8:45 am]

BILLING CODE 6560-50-P